DEPARTMENT OF COMMERCE

National Oceanic and Atmospheric Administration

RIN: 0648-XS40

Fisheries of the South Atlantic and Gulf of Mexico; South Atlantic Fishery Management Council; Public Meetings

AGENCY: National Marine Fisheries Service (NMFS), National Oceanic and Atmospheric Administration (NOAA), Commerce.

ACTION: Notice of joint workshop.

SUMMARY: The South Atlantic Fishery Management Council and NOAA Fisheries Service's Southeast Fisheries Science Center are convening a workshop to develop a fishery independent monitoring program for the fisheries resources of the South Atlantic. The workshop will be held in Beaufort, NC.

DATES: The workshop will be held November 17-20, 2009. The workshop will be held from 8:30 a.m. to 6 p.m. on November 17 through November 19; and from 8:30 a.m. to 4 p.m. on November 20, 2009.

ADDRESSES: The meeting will be held at the Center for Coastal Fisheries and Habitat Research, 101 Pivers Island Road, Beaufort, NC 28516.

Council address: South Atlantic Fishery Management Council, 4055 Faber Place Drive, Suite 201, North Charleston, SC 29405.

FOR FURTHER INFORMATION CONTACT: Kim Iverson, Public Information Officer; telephone: (843) 571-4366; e-mail: Kim.Iverson@safmc.net.

SUPPLEMENTARY INFORMATION: The South Atlantic Fishery Management Council and the Southeast Fisheries Science Center are convening a workshop to develop a fishery independent monitoring program for the fisheries resources of the South Atlantic. Topics to be considered will include sampling design, temporal and spatial allocation, target species and habitats, gear selection and configuration, and needs that may be addressed through existing programs. The intent of the workshop is to build on the experience of existing programs such as the Marine Resources Monitoring, Assessment, and Prediction (MARMAP) Program and the Southeast Area Monitoring and Assessment Program (SEAMAP), and to incorporate knowledge of effective and practical sampling methods developed for similar habitats and species in other areas.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to the Council office (see ADDRESSES) at least 3 business days prior to the meeting.

Dated: October 15, 2009.
Tracey L. Thompson,
Acting Director, Office of Sustainable Fisheries, National Marine Fisheries Service.

[FR Doc. E9-25129 Filed 10-19-09; 8:45 am]

BILLING CODE 3510-22-S